DEPARTMENT OF HOMELAND SECURITY

Federal Emergency Management Agency

[Docket ID FEMA-2015-0006]

Notice To Extend the Comment Period for the Proposed Revised Guidelines for Implementing Executive Order 11988, Floodplain Management, as Revised Through the Federal Flood Risk Management Standard

AGENCY: Federal Emergency Management Agency, DHS.

ACTION: Notice.

SUMMARY: This notice extends the comment period for the proposed “Revised Guidelines for Implementing Executive Order 11988, Floodplain Management” published in the Federal Register on February 5, 2015 (80 FR 6530). The comment period for the proposed revised guidelines, which would have ended on April 6, 2015, is extended for 30 days.

DATES: The comment period is extended until May 6, 2015.

ADDRESSES: Comments must be identified by docket ID FEMA-2015-0006 and may be submitted by one of the following methods:

Federal eRulemaking Portal: http://www.regulations.gov. Follow the instructions for submitting comments.

Mail/Hand Delivery/Courier: Regulatory Affairs Division, Office of Chief Counsel, Federal Emergency Management Agency, 8NE, 500 C Street SW., Washington, DC 20472-3100.

Instructions: All submissions received must include the docket ID FEMA-2015-0006. Comments received will be posted without alteration at http://www.regulations.gov, including any personal information provided.

Docket: For access to the docket to read comments received, go to http://www.regulations.gov, and search for the Docket ID FEMA-2015-0006.

Background Information: Background information about these topics is available on the FFRMS Web site at https://www.fema.gov/federal-flood-risk-management-standard-ffrms or in the docket for this Notice at www.regulations.gov, Docket ID FEMA-2015-0006.

FOR FURTHER INFORMATION CONTACT: Bradley Garner, 202-646-3901 or FEMA-FFRMS@fema.dhs.gov. Mailing Address: FFRMS, 1800 South Bell Street, Room 627, Arlington, VA 20598-3030. The Web site is https://www.fema.gov/federal-flood-risk-management-standard-ffrms.

SUPPLEMENTARY INFORMATION: On January 30, 2015, the President signed Executive Order 13690, directing FEMA, on behalf of the Mitigation Framework Leadership Group, to publish for public comment draft revised Floodplain Management Guidelines to provide guidance to agencies on the implementation of Executive Order 11988, as amended, consistent with a new Federal Flood Risk Management Standard. These draft revised Guidelines were developed by the Mitigation Framework Leadership Group in consultation with the Federal Interagency Floodplain Management Task Force. On February 5, 2015, FEMA published the proposed “Revised Guidelines for Implementing Executive Order 11988, Floodplain Management” on behalf of the Mitigation Framework Leadership Group to solicit and consider public input.

The Mitigation Framework Leadership Group has received several comments regarding the 60-day time period to submit comments. The commenters stated that they needed additional time to review and adequately respond to the proposed revised guidelines because of the complex nature of the topic. Because of the scope of the proposed revised guidelines, and because the Mitigation Framework Leadership Group has specifically requested the public's comments on the proposed revised guidelines in an attempt to benefit from the experience of all interested parties, the comment period will be extended for an additional 30 days. This notice announces the extension of the public comment period to May 6, 2015.

Authority: Executive Order 11988, as amended; Executive Order 13690.

Roy Wright,
Deputy Associate Administrator for Mitigation, Federal Emergency Management Agency.

[FR Doc. 2015-06879 Filed 3-25-15; 8:45 am]

BILLING CODE 9111-47-P